DEPARTMENT OF TRANSPORTATION

Federal Aviation Administration

14 CFR Part 95

[Docket No. 30635; Amdt. No. 477]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, November 20, 2008.

FOR FURTHER INFORMATION CONTACT: Donald P. Pate, Flight Procedure Standards Branch (ANCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR

Part 95 Airspace, Navigation (air).

Issued in Washington, DC on October 20, 2008.
James J. Ballough,
Director, Flight Standards Service.

Adoption of the Amendment

Accordingly, pursuant to the authority delegated to me by the Administrator, part 95 of the Federal Aviation Regulations (14 CFR part 95) is amended as follows effective at 0901 UTC, November 20, 2008.

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 477 effective date November 20, 2008]
From | To | MEA | MAA
§ 95.4000 High Altitude RNAV Routes
§ 95.4276 RNAV Route T276 Is Added To Read
COUGA, WA FIX | CARBY, WA FIX | 6500 | 17500

From | To | MEA
§ 95.6001 VICTOR AIRWAY V2 Is Amended To Read in Part
LANSING, MI VORTAC | SALEM, MI VORTAC | #*5000
*3000-MOCA
*3000-GNSS MEA
#R-115 UNUSABLE BELOW 5000
§ 95.6008 VOR FEDERAL AIRWAY V8 Is Amended To Read in Part
HAYES CENTER, NE VORTAC | GRAND ISLAND, NE VORTAC | *5500
§ 95.6033 VOR FEDERAL AIRWAY V33 Is Amended To Read in Part
BRADFORD, PA VOR/DME | BUFFALO, NY VOR/DME | #*11000
*5000-GNSS MEA
#BFD R-006 UNUSABLE USE BUF R-187
§ 95.6044 VOR FEDERAL AIRWAY V44 Is Amended To Read in Part
FALMOUTH, KY VOR/DME | YORK, KY VORTAC | 3300
YORK, KY VORTAC | PARKERBURG, WV VORTAC | 3300
*KARRS, NJ FIX | **GAMBY, NJ FIX | ***7000
*7000-MRA
**6000-MRA
***1300-MOCA
****2000-GNSS MEA
§ 95.6066 VOR FEDERAL AIRWAY V66 Is Amended to Read in Part
ABILENE, TX VORTAC | TRUSS, TX FIX | 3500
TRUSS, TX FIX | MILLSAP, TX VORTAC | 3700
§ 95.6086 VOR FEDERAL AIRWAY V86 Is Amended To Read in Part
SHERIDAN, WY VORTAC | WETON, WY FIX | *10900
*7000-MOCA
*7000-GNSS MEA
WETON, WY FIX | *KOCYE, WY FIX | **13000
*15000-MRA
**7000-MOCA
***7000-GNSS MEA
*KOCYE, WY FIX | KARAS, WY FIX | **13000
*15000-MRA
**8600-MOCA
**9000-GNSS MEA
KARAS, WY FIX | *PACTO, SD FIX | **11100
*9700-MRA
**9400-MOCA
**10000-GNSS MEA
*PACTO, DS FIX | **RAPID CITY, SD VORTAC |
*9700-MRA | E BND
**5500-MCA RAPID CITY, SD VORTAC, W BND | W BND
**7100-MOCA
§ 95.6088 VOR FEDERAL AIRWAY V88 Is Amended To Read in Part
VINTA, OK FIX | NARCI, OK FIX | *4500
*2300-MOCA
*4000-GNSS MEA
NARCI, OK FIX | WACCO, MO FIX | *6500
*3100-MOCA
*4000-GNSS MEA
§ 95.6115 VOR FEDERAL AIRWAY V115 Is Amended To Read in Part
JAMESTOWN, NY VOR/DME | LANGS, NY FIX | 3900
LANGS, NY FIX | BUFFALO, NY VOR/DME | *11000
*3500-MOCA
*5000-GNSS MEA
§ 95.6117 VOR FEDERAL AIRWAY V117 Is Amended To Read in Part
BELLAIRE, OH VOR/DME | WISKE, WV FIX | 3100
§ 95.6119 VOR FEDERAL AIRWAY V119 Is Amended To Read in Part
WELLSVILLE, NY VORTAC | BURST, NY FIX | 4500
BURST, NY FIX | GENESEO, NY VOR/DME | 4000
§ 95.6128 VOR FEDERAL AIRWAY V128 Is Amended To Read in Part
YORK, NY VORTAC | CROUP, OH FIX | 3300
§ 95.6143 VOR FEDERAL AIRWAY V143 Is Amended To Read in Part
POTTSTOWN, PA VORTAC | YARDLEY, PA VOR/DME | *6900
§ 95.6157 VOR FEDERAL VIRWAY V157 Is Amended To Read in Part
ALLENDALE, SC VOR | VANCE, SC VORTAC | *6000
*2000-GNSS MEA
§ 95.6159 VOR FEDERAL AIRWAY V159 Is Amended To Read in Part
ORLANDO, FL VORTAC | *SHIMM, FL FIX | 2000
*3000-MRA
*SHIMM, FL FIX | OCALA, FL VORTAC | 2000
*3000-MRA
§ 95.6164 VOR FEDERAL AIRWAY V164 Is Amended To Read in Part
BUFFALO, NY VOR/DME | *BENEE, NY FIX | **11000
*11000-MRA
**4400-MOCA
**5000-GNSS MEA
*BENEE, NY FIX | WELLSVILLE, NY VORTAC | **6000
*11000-MRA
**4500-MOCA
**5000-GNSS MEA
§ 95.6187 VOR FEDERAL AIRWAY V187 Is Amended To Read in Part
RATTLESNAKE, NM VORTAC | RIZAL, CO FIX | 9100
RIZAL, CO FIX | MANCA, CO FIX | 10900
MANCO, CO FIX | HERRM, CO FIX | *15000
*1200-MOCA
HERRM, CO FIX | *GRAND JUNCTION, CO VORTAC | 12100
*10700-MCA GRAND JUNCTION, CO VORTAC, S BND
§ 95.6198 VOR FEDERAL AIRWAY V198 Is Amended To Read in Part
PEARL, LA FIX | DOGMA, MS FIX | *2300
*1300-MOCA
DOGMA, MS FIX | *ROMMY, MS FIX | **2800
*4000-MRA
**1300-MOCA
§ 95.6221 VOR FEDERAL AIRWAY V221 Is Amended To Read in Part
HOOSIER, IN VORTAC | SHELBYVILLE, IN VORTAC | #*6000
*3100-MOCA
*4000-GNSS MEA
#R-053 UNUSABLE.
§ 95.6240 VOR FEDERAL AIRWAY V240 Is Amended To Read in Part
PEARL, LA FIX | DOGMA, MS FIX | *2300
*1300-MOCA
DOGMA, MS FIX | *ROMMY, MS FIX | **2800
*4000-MRA
**1300-MOCA
§ 95.6245 VOR FEDERAL AIRWAY V245 Is Amended To Read in Part
JACKSON, MS VORTAC | BIGBEE, MS VORTAC | *5000
*3000-GNSS MEA
§ 95.6278 VOR FEDERAL AIRWAY V278 Is Amended To Read in Part
GUTHRIE, TX VORTAC | *NIFDE, TX FIX | **4500
*6500-MRA
**3300-MOCA
*NIFDE, TX FIX | BOWIE, TX VORTAC | **3300
*6500-MRA
**2600-MOCA
§ 95.6288 VOR FEDERAL AIRWAY V288 Is Amended To Read in Part
LUCIN, UT VORTAC | *CORIN, UTA FIX | **13000
*13000-MRA
*16000-MCA CORIN, UTA FIX, E BND
**9400-MOCA
*CORIN, UTA FIX | FORT BRIDGER, WY VOR/DME | **16000
*13000-MRA
**11400-MOCA
§ 95.6295 VOR FEDERAL AIRWAY V295 Is Amended To Read in Part
ORLANDO, FL VORTAC | *SHIMM, FL FIX | 2000
*3000-MRA
*SHIMM, FL FIX | OCALA, FL VORTAC | 2000
*3000-MRA
§ 95.6305 VOR FEDERAL AIRWAY V305 Is Amended To Read in Part
HOOSIER, IN VORTAC | BRICKYARD, IN VORTAC | #*2700
*2700-FNSS MEA
#R-027 UNUSABLE.
§ 95.6391 VOR FEDERAL AIRWAY V391 Is Amended To Read in Part
DOVE CREEK, CO VORTAC | PAROX, CO FIX | *12000
*10500-MOCO
PAROX, CO FIX | *GRAND JUNCTION, CO VORTAC | 12000
*10700-MCA GRAND JUNCTION, CO VORTAC, S BND
§ 95.6441 VOR FEDERAL AIRWAY V441 Is Amended To Read in Part
GATORS, FL VORTAC | BRUNSWICK, GA VORTAC | 3000
§ 95.6455 VOR FEDERAL AIRWAY V455 Is Amended To Read in Part
PICAYUNE, MS VOR/DME | *PLUGG, MS FIX | 2000
*5000-MRA
*PLUGG, MS FIX | EATON, MS VORTAC | 2000
§ 95.6493 VOR FEDERAL AIRWAY V493 Is Amended To Read in Part
LEXINGTON, JY VORTAC | BEAER, KY FIX | 3000
BEAER, KY FIX | YORK, KY VORTAC | 3300
YORK, KY VORTAC | TARTO, OH FIX | 3300
§ 95.6521 VOR FEDERAL AIRWAY V521 Is Amended To Read in Part
*ORATE, FL FIX | **CROSS CITY, FL VORTAC | ***2000
*3000-MRA
**5000-MCA CROSS CITY, FL VORTAC, W BND
**1400-MOCA
CROSS CITY, FL VORTAC | *HEVVN, FL FIX | **5000
*7000-MCA HEVVN, FL FIX, W BND
**1400-MOCA
§ 95.6542 VOR FEDERAL AIRWAY V542 Is Amended To Read in Part
BRADFORD, PA VOR/DME | EXALL, PA FIX | 4500
EXALL, PA FIX | ELMIRA, NY VOR/DME | 4000
§ 95.6552 VOR FEDERAL AIRWAY V552 Is Amended To Read in Part
PICAYUNE, MS VOR/DME | *MINDO, MS FIX | 2000
*6000-MRA
*MINDO, MS FIX | SEMMES, AL VORTAC | 2000
*6000-MRA
§ 95.6578 VOR FEDERAL AIRWAY V578 Is Amended To Read in Part
ALMA, GA VORTAC | SAVANNAH, GA VORTAC | *10000
*2000-MOCA
*3000-GNSS MEA
§ 95.6456 ALASKA VOR FEDERAL AIRWAY V456 Is Amended To Read in Part
TUCKS, AK FIX | KENAI, AK VOR/DME | *5000
*3300-MOCA
KING SALMON, AK VORTAC | STREW, AK FIX |
| SW BND
| NE BND
*2300-MOCA
BITOP, AK FIX | NOSKY, AK FIX | *9000
*5200-MOCA
*8000-GNSS MEA, NE BND
*6000-OPPOSITE GNSS MEA, SW BND
NOSKY, AK FIX | *TUCKS, AK FIX | **13000
*10300-MCA TUCKS, AK FIX, SW BND
**12300-MOCA
STREW, AK FIX | BITOP, AK FIX |
| NE BND
| SW BND
*5000-GNSS MEA

From | To | MEA | MAA
§ 95.7001 Jet Routes
§ 95.7225 JET ROUTE J225 Is Amended To Read in Part
CEDAR LAKE, NJ VORTAC | KENNEDY, NY VOR/DME | 18000 | 33000

[FR Doc. E8-25508 Filed 10-27-08; 8:45 am]

BILLING CODE 4910-13-M